DEPARTMENT OF ENERGY

Federal Energy Regulatory Commission

Combined Notice of Filings #1

Take notice that the Commission received the following electric rate filings:

Docket Numbers: ER13-55-026.

Applicants: Homer City Generation, L.P.

Description: Triennial Market Power Analysis for Northeast Region of Homer City Generation, L.P.

Filed Date: 12/30/22.

Accession Number: 20221230-5391.

Comment Date: 5 p.m. ET 3/13/23.

Docket Numbers: ER17-1217-001.

Applicants: Total Gas & Power North America, Inc.

Description: Supplement to October 28, 2022, Notice of Non-Material Change in Status of TotalEnergies Gas & Power North America, Inc., et al.

Filed Date: 1/10/23.

Accession Number: 20230110-5180.

Comment Date: 5 p.m. ET 1/31/23.

Docket Numbers: ER22-1165-001.

Applicants: PJM Interconnection, L.L.C.

Description: Compliance filing: Order No. 676-J Compliance Revisions to be effective 6/2/2022.

Filed Date: 10/27/22.

Accession Number: 20221027-5144.

Comment Date: 5 p.m. ET 2/1/23.

Docket Numbers: ER23-277-002.

Applicants: Westlake US 2 LLC.

Description: Tariff Amendment: Amendment to Region Status Update in Docket ER23-277 to be effective 1/1/2023.

Filed Date: 1/11/23.

Accession Number: 20230111-5051.

Comment Date: 5 p.m. ET 1/23/23.

Docket Numbers: ER23-425-001.

Applicants: PJM Interconnection, L.L.C.

Description: Tariff Amendment: Request to Defer Action on Amendment to WMPA, SA No. 6062 to be effective 12/31/9998.

Filed Date: 1/11/23.

Accession Number: 20230111-5037.

Comment Date: 5 p.m. ET 2/1/23.

Docket Numbers: ER23-481-000.

Applicants: TotalEnergies Gas & Power North America, Inc.

Description: Supplement and Clarification of Request for Waiver of Prior Notice to November 22, 2022 TotalEnergies Gas & Power North America, Inc. submits tariff filing Updated Market Based Rate Tariff submitted on 11/22/2022.

Filed Date: 1/10/23.

Accession Number: 20230110-5177.

Comment Date: 5 p.m. ET 1/31/23.

Docket Numbers: ER23-803-000.

Applicants: Invenergy Solar Project Development LLC.

Description: Invenergy Solar Project Development LLC Requests a Prospective Waiver of Section 25.6.2.3.1 of Attachment S of the New York Independent System Operator, Inc. OATT.

Filed Date: 1/10/23.

Accession Number: 20230110-5179.

Comment Date: 5 p.m. ET 1/20/23.

Docket Numbers: ER23-804-000.

Applicants: PJM Interconnection, L.L.C.

Description: § 205(d) Rate Filing: Original NSA, Service Agreement No. 6761; Queue No. AF1-021 to be effective 12/13/2022.

Filed Date: 1/11/23.

Accession Number: 20230111-5013.

Comment Date: 5 p.m. ET 2/1/23.

Docket Numbers: ER23-805-000.

Applicants: Southwest Power Pool, Inc.

Description: § 205(d) Rate Filing: Tariff Clean-Up Filing Effective 20211001 to be effective 10/1/2021.

Filed Date: 1/11/23.

Accession Number: 20230111-5043.

Comment Date: 5 p.m. ET 2/1/23.

Docket Numbers: ER23-806-000.

Applicants: Wolverine Power Supply Cooperative, Inc.

Description: § 205(d) Rate Filing: Second Amended and Restated Transmission Interconnection Facilities Agreement to be effective 3/13/2023.

Filed Date: 1/11/23.

Accession Number: 20230111-5047.

Comment Date: 5 p.m. ET 2/1/23.

Docket Numbers: ER23-807-000.

Applicants: Southern California Edison Company.

Description: § 205(d) Rate Filing: GIA & DSA, BCE Los Alamitos 2 1st Amend (WDT1583-SA Nos. 1141-1142) to be effective 3/13/2023.

Filed Date: 1/11/23.

Accession Number: 20230111-5052.

Comment Date: 5 p.m. ET 2/1/23.

Docket Numbers: ER23-808-000.

Applicants: Black Hills Power, Inc.

Description: § 205(d) Rate Filing: Revisions to GDEMA with MDU Related to WEIS Integration to be effective 4/1/2023.

Filed Date: 1/11/23.

Accession Number: 20230111-5053.

Comment Date: 5 p.m. ET 2/1/23.

Docket Numbers: ER23-809-000.

Applicants: Black Hills Power, Inc.

Description: § 205(d) Rate Filing: Revisions to GDEMA with BHW Related to WEIS Integration to be effective 4/1/2023.

Filed Date: 1/11/23.

Accession Number: 20230111-5062.

Comment Date: 5 p.m. ET 2/1/23.

Docket Numbers: ER23-810-000.

Applicants: Black Hills Power, Inc.

Description: § 205(d) Rate Filing: Revisions to GDEMA with BHCOE Related to WEIS Integration to be effective 4/1/2023.

Filed Date: 1/11/23.

Accession Number: 20230111-5064.

Comment Date: 5 p.m. ET 2/1/23.

Docket Numbers: ER23-811-000.

Applicants: Black Hills Power, Inc.

Description: § 205(d) Rate Filing: Revisions to GDEMA with Gillette Related to WEIS Integration to be effective 4/1/2023.

Filed Date: 1/11/23.

Accession Number: 20230111-5066.

Comment Date: 5 p.m. ET 2/1/23.

Docket Numbers: ER23-812-000.

Applicants: Black Hills Power, Inc.

Description: § 205(d) Rate Filing: Revisions to GDEMA with CLFP Related to WEIS Integration to be effective 4/1/2023.

Filed Date: 1/11/23.

Accession Number: 20230111-5070.

Comment Date: 5 p.m. ET 2/1/23.

Docket Numbers: ER23-813-000.

Applicants: PJM Interconnection, L.L.C.

Description: § 205(d) Rate Filing: Original ISA, SA No. 6740; Queue No. AC1-194 & Cancellation of IISA, SA No. 6156 to be effective 12/15/2022.

Filed Date: 1/11/23.

Accession Number: 20230111-5077.

Comment Date: 5 p.m. ET 2/1/23.

Docket Numbers: ER23-814-000.

Applicants: PJM Interconnection, L.L.C.

Description: § 205(d) Rate Filing: Original ISA, SA No. 6756; Queue No. AF1-105 to be effective 12/16/2022.

Filed Date: 1/11/23.

Accession Number: 20230111-5081.

Comment Date: 5 p.m. ET 2/1/23.

Docket Numbers: ER23-815-000.

Applicants: Dominion Energy South Carolina, Inc.

Description: § 205(d) Rate Filing: Attachment H Clean Up Filing to be effective 9/1/2021.

Filed Date: 1/11/23.

Accession Number: 20230111-5082.

Comment Date: 5 p.m. ET 2/1/23.

Docket Numbers: ER23-816-000.

Applicants: System Energy Resources, Inc.

Description: § 205(d) Rate Filing: SERI Compliance Report and Limited Extension Request (EL18-152) to be effective 12/31/9998.

Filed Date: 1/11/23.

Accession Number: 20230111-5117.

Comment Date: 5 p.m. ET 2/1/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2023.
Debbie-Anne A. Reese,
Deputy Secretary.

[FR Doc. 2023-00844 Filed 1-17-23; 8:45 am]

BILLING CODE 6717-01-P